DEPARTMENT OF DEFENSE

Department of the Army, Corps of Engineers

Notice of Intent To Prepare an Environmental Impact Statement (EIS) for the Greers Ferry Lake Shoreline Management Plan, Arkansas

AGENCY: U.S. Army Corps of Engineers, Department of Defense.

ACTION: Notice of intent.

SUMMARY: The purpose of the Environmental Impact Statement (EIS) is to address alternatives and impacts pertaining to the Shoreline Management Plan (SMP) at Greers Ferry Lake, Heber Springs, Arkansas, as proposed under a review and update of the 1994 SMP. This review and update of the SMP is conducted in accordance with Title 36 CFR, 327.30.

FOR FURTHER INFORMATION CONTACT: Questions or comments concerning the proposed action should be addressed to Ms. Tricia Anslow, Project Manager, Planning Branch, P.O. Box 867, Little Rock, Arkansas 72203-0867, telephone 501-324-5032, E-mail: patricia.anslow@swl02.usace.army.mil or Mr. Jim Ellis, Environmental Team Leader, Planning Branch, P.O. Box 867, Little Rock, Arkansas 72203-0867, telephone 501-324-5033, e-mail: James.D.Ellis@swl02.usace.army.mil.

SUPPLEMENTARY INFORMATION: Greers Ferry Lake, has been operating under the current Shoreline Management Plan (SMP) since 1994. Shoreline Management Plans are reviewed periodically, but no less often than every five years, to determine need for updates, and ensure protection of a quality resource for the public, while balancing permitted private uses. The SMP is a comprehensive document addressing multiple reservoir activities and is developed in conjunction with the Operational Management Plan. Public meetings were conducted from January 1999-January 2000 to solicit comments about the current plan and review process. During this period, the public involvement was used to develop alternatives for the revision of the SMP. Due to the level of public interest it was concluded that the SMP warranted revision.

The Greers Ferry Lake draft SMP addresses the following changes: (1) permitting of additional boat docks, resulting in an expansion of the current shoreline development; (2) modification in the distance of current vegetation modification (mowing) permits from the current 50′ from a habitable structure, with the addition of minimum shoreline buffer; and; (3) implementation of wildlife enhancement permits, allowing limited modification of the shoreline. Elements that arise during the scoping meetings will also be addressed in the Environmental Impact Statement.

The Environmental Impact Statement will evaluate impacts due to revisions proposed in the draft SMP, as modified from the 1994 Shoreline Management Plan. Significant issues to be addressed in the EIS include: (1) Impacts on physical resources; (2) impacts on pollution and water quality; (3) impacts on cultural resources; (4) impacts on wetlands; (5) impacts on aquatic resources; (6) impacts on terrestrial resources; (7) impacts on threatened and endangered species; (8) impacts on recreation and facilities; (9) impacts on aesthetics; (10) socio-economic impacts; and (11) other impacts identified by the public, agencies, or Corps studies.

Scoping meetings for the project are planned to be conducted in the fall of 2000. News releases informing the public and local, state, and Federal agencies of the proposed action will be published in state and local newspapers. Comments received as a result of this notice and the news releases will be used to assist the Little Rock District in identifying potential impacts to the quality of the human or natural environment.

Affected local, state, or Federal agencies, affected Indian tribes, and other interested private organizations and parties may participate in the scoping process by forwarding written comments to the above noted address or attending scoping meetings.

The draft EIS (DEIS) is expected to be available for public review and comment by October 1, 2001 subject to receipt of Federal funding. Any comments and suggestions should be forwarded to the above noted address no later than September 1, 2001, to be considered in the DEIS.

Thomas A. Holden, Jr.,
Colonel, Corps of Engineers, District Engineer.

[FR Doc. 00-21448 Filed 8-22-00; 8:45 am]

BILLING CODE 3710-57-U